DEPARTMENT OF TRANSPORTATION

Surface Transportation Board

[Docket No. FD 35373]

Stillwater Central Railroad, Inc.—Trackage Rights Exemption—Wichita, Tillman and Jackson Railway Company, Inc., and Hollis & Eastern Railroad Company

Pursuant to a written trackage rights agreement (Trackage Agreement) dated January 22, 1992, Wichita, Tillman & Jackson Railway Co. (WTJ) granted approximately 4.6 miles of restricted overhead trackage rights to Hollis & Eastern Railroad Company (H&E), extending between milepost 74.0 at Altus, Okla., and the end of the line at milepost 78.6 near Altus.¹ Now, pursuant to the Trackage Agreement and a First Supplement,² H&E has agreed to assign the restricted overhead trackage rights to Stillwater Central Railroad, Inc. (SLWC), over the same trackage, including the wye track connecting to SLWC and all interchange tracks connecting with BNSF Railway Company (BNSF) and Farmrail Corporation (FMRC). The assignment is being made pursuant to an Assignment Assumption Agreement and a Lease and Transportation Services Agreement between H&E and SLWC.

¹ The line is owned by the State of Oklahoma and is leased, operated, and maintained by WTJ. H&E acquired the authority in Hollis & Eastern Railroad Company—Trackage Rights Exemption—Wichita, Tillman & Jackson Railway Co., Docket No. FD 32147 (ICC served Sept. 21, 1992).

² The parties indicate that the first supplement is awaiting approval from the State.

The transaction is scheduled to be consummated on May 21, 2010, the effective date of the exemption (30 days after the exemption is filed). The purpose of the assigned trackage rights is to enable SLWC to interchange traffic originating or terminating on a line SLWC leases between Duke, Okla., and Altus with BNSF and FMRC.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980), and any employees affected by the discontinuance of those trackage rights will be protected by the conditions set out in Oregon Short Line Railroad and The Union Pacific Railroad—Abandonment Portion Goshen Branch Between Firth and Ammon, in Bingham and Bonneville Counties, Idaho, 360 I.C.C. 91 (1979).

This notice is filed under 49 CFR 1180.2(d)(7). If the notice contains false or misleading information, the exemption is void ab initio. Petitions to revoke the exemption under 49 USC 10502(d) may be filed at any time. The filing of a petition to revoke will not automatically stay the effectiveness of the exemption. Stay petitions must be filed by May 14, 2010 (at least 7 days before the exemption becomes effective).

An original and 10 copies of all pleadings, referring to Docket No. FD 35373, must be filed with the Surface Transportation Board, 395 E Street, SW., Washington, DC 20423-0001. In addition, a copy of each pleading must be served on Karl Morell, Suite 225, 1455 F Street, NW., Washington, DC 20005.

Board decisions and notices are available on our Web site at http://www.stb.dot.gov.

Decided: May 3, 2010.
By the Board, Rachel D. Campbell, Director, Office of Proceedings.
Jeffrey Herzig,
Clearance Clerk.

[FR Doc. 2010-10793 Filed 5-6-10; 8:45 am]

BILLING CODE 4915-01-P